COMMODITY FUTURES TRADING COMMISSION

17 CFR Part 38

RIN 3038-AD09

Core Principles and Other Requirements for Designated Contract Markets; Correction

AGENCY: Commodity Futures Trading Commission.

ACTION: Final rule; correction.

SUMMARY: This document corrects the Federal Register release of the final rule regarding Core Principles and Other Requirements for Designated Contract Markets by inserting a missing instruction to add Appendix C to 17 CFR part 38. This is a correction to the Federal Register only, which does not affect the text of Appendix C as published in the final rule.

DATES: This correction is effective May 29, 2013.

FOR FURTHER INFORMATION CONTACT: Christopher Kirkpatrick, Deputy Secretary, Commodity Futures Trading Commission, Three Lafayette Centre, 1155 21st Street NW., Washington, DC 20581; 202-418-5964; CKirkpatrick@cftc.gov.

SUPPLEMENTARY INFORMATION: The Commodity Futures Trading Commission is correcting amendatory language for the previously published Federal Register release of the final rule regarding Core Principles and Other Requirements for Designated Contract Markets (77 FR 36612, June 19, 2012). The final rule, as published in the Federal Register, included an Appendix C to 17 CFR part 38, “Demonstration of Compliance That a Contract Is Not Readily Susceptible to Manipulation.” However, the instruction to add that appendix to the Code of Federal Regulations was inadvertently omitted from the Federal Register publication of the final rule. Therefore, on page 36722, at the top of the first column, immediately before the heading, “Appendix C—Demonstration of Compliance That a Contract Is Not Readily Susceptible to Manipulation,” insert the following amendatory instruction:

* * * * *

20. Add appendix C to part 38 to read as follows:

* * * * *

Dated: May 29, 2013.
Christopher J. Kirkpatrick,
Deputy Secretary of the Commission.

[FR Doc. 2013-13045 Filed 5-29-13; 4:15 pm]

BILLING CODE 6351-01-P